DEPARTMENT OF THE INTERIOR

Bureau of Land Management

[LLCO921000-L13200000-EL0000, COC-75642]

Notice of Invitation To Participate; Exploration for Coal in Colorado License Application COC-75642

AGENCY: Bureau of Land Management, Interior.

ACTION: Notice of Invitation.

SUMMARY: Pursuant to the Mineral Leasing Act of 1920, as amended by the Federal Coal Leasing Amendments Act of 1976, and to Bureau of Land Management (BLM) regulations, all interested parties are hereby invited to participate with Texas and Oklahoma Coal Company, LLC, on a pro rata cost-sharing basis, in its program for the exploration of coal deposits owned by the United States of America on lands located in Las Animas County, Colorado.

DATES: Any party electing to participate in this exploration program must send written notice to both Texas and Oklahoma Coal Company, LLC, and the BLM as provided in the ADDRESSES section below by February 25, 2013. Texas and Oklahoma Coal Company, LLC, published a notice of invitation to participate in exploration in the Trinidad Times Independent newspaper the weeks of October 23, 2012 and October 30, 2012.

ADDRESSES: Copies of the exploration plan (case file number COC-75642) are available for review during normal business hours in the following offices: BLM, Colorado State Office, 2850 Youngfield Street, Lakewood, CO 80215, and BLM, Royal Gorge Field Office, 3028 E. Main St, Canon City, CO 81212. Any party electing to participate in this exploration program shall notify the BLM State Director, in writing, at the BLM Colorado State Office (address above) and Texas and Oklahoma Coal Company, LLC, Attn: Haldane Morris, 2711 N. Haskell Ave, Suite 550, Dallas, TX 75204.

FOR FURTHER INFORMATION CONTACT: Kurt M. Barton at 303-239-3714, kbarton@blm.gov; or Melissa Smeins at 719-269-8523, msmeins@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Texas and Oklahoma Coal Company, LLC, has applied to the BLM for a coal exploration license. The purpose of the exploration program is to obtain geologic information about the coal. The BLM regulations at 43 CFR 3410 require the publication of an invitation to participate in the coal exploration in the Federal Register. The Federal coal resources included in the exploration license application are located in the following described lands in Las Animas, Colorado:

Sixth Principal Meridian

T. 32 S., R. 64 W., 6th P.M.

Sec. 19, lots 1, 3, and 4, E½, and SE¼SW¼;

Sec. 20, W½, and W½SE¼;

Sec. 28, NW¼, SE¼, and W½NE¼;

Sec. 29, All;

Sec. 30, lots 1 to 4, inclusive, E½, and E½W½;

Sec. 31, lots 1 to 4, inclusive, E½, and E½W½;

Sec. 32, All.

Sec. 33, NE¼, and S½ .

T. 33 S., R. 64 W., 6th P.M.

Sec. 4, lots 3 and 4, SW¼, and S½NW¼;

Sec. 5, lots 1, 3 and 4, SE¼NE¼, and S½SW¼;

Sec. 6, lots 1 to 7, inclusive, S½NE¼, SE¼, SE¼NW¼, and E½SW¼;

Sec. 7, lots 1 to 4, inclusive, NE¼, E½NW¼, N½SE¼, and E½SW¼;

Sec. 8, NW¼, SE¼, N½SW¼, and SW¼NE¼;

Sec. 9, N½NW¼, and SE¼NW¼;

Sec. 17, NE¼, N½SE¼, SE¼NW¼, and SW¼SW¼;

Sec. 18, lots 1 and 2, E½NW¼, SE¼, S½NE¼, and E½SW¼;

Sec. 19, NE¼NW¼, E½SE¼, N½NE¼, and SE¼NE¼;

Sec. 20, All, except NE¼NE¼;

Sec. 21, NE¼, NE¼NW¼, SW¼NW¼, N½SE¼, SW¼SE¼, and NW¼SW¼.

T. 32 S., R. 65 W., 6th P.M.

Sec. 10, E½;

Sec. 13, lots 1, 2, and 3, SW¼, and W½W½NE¼SE¼;

Sec. 14, S½, and SW¼NW¼;

Sec. 15, E½;

Sec. 22, NE¼, and W½SE¼;

Sec. 23, NE¼, and S½;

Sec. 24, lots 1 to 11, inclusive, NW¼, and SW¼SW¼;

Sec. 25, All;

Sec. 26, All;

Sec. 27, E½;

Sec. 34, E½;

Sec. 35, NW¼, and S½.

T. 33 S., R. 65 W., 6th P.M.

Sec. 1, lots 1 and 2, S½NE¼, N½SE¼, SE¼SE¼, SE¼NW¼,

and SW¼SW¼;

Sec. 2, lots 1 to 4, inclusive, SW¼NE¼, SW¼, S½SE¼, NW¼SE¼, and

S½NW¼;

Sec. 3, lots 1 and 2, SE¼, and S½NE¼;

Sec. 11, All, except W½SW¼;

Sec. 12, NW¼, S½NE¼, and S½;

Sec. 13, NE¼.

These lands contain 16,323.42 acres, more or less.

The proposed exploration program is fully described in, and will be conducted pursuant to, an exploration plan to be approved by the BLM.

The foregoing is published in the Federal Register pursuant to 43 CFR 3410.2-1(c)(1).

Helen M. Hankins,
BLM Colorado State Director.

[FR Doc. 2013-01264 Filed 1-23-13; 8:45 am]

BILLING CODE 4310-JB-P